DEPARTMENT OF HOMELAND SECURITY

Coast Guard

33 CFR Part 100

[Docket No. USCG-2025-0694]

Special Local Regulations; Marine Events Within the Southeast Coast Guard District

AGENCY: Coast Guard, DHS.

ACTION: Notification of enforcement of regulation.

SUMMARY: The Captain of the Port Savannah, Georgia (COTP) will enforce a special local regulation for the Ironman Triathlon on September 28, 2025, to provide for the safety of life on navigable waterways during this event. Our regulation for marine events within the Southeast Coast Guard District identifies the regulated area for this event in Augusta, GA. During the enforcement periods, no person or vessel may enter, transit through, anchor in, or remain within the regulated area unless authorized by the Coast Guard Patrol Commander or a designated representative.

DATES: The regulations in 33 CFR 100.701 will be enforced for the Ironman 70.3 regulated area listed in item d.3 in Table 1 to § 100.701, from 6 a.m. until 11 a.m. on September 28, 2025.

FOR FURTHER INFORMATION CONTACT: If you have questions about this notification of enforcement, call or email Lieutenant Anthony Harris, Marine Safety Unit Savannah, Waterways Division Chief, U.S. Coast Guard; telephone (912) 210-8714, or email Anthony.E.Harris@uscg.mil.

SUPPLEMENTARY INFORMATION: The Coast Guard will enforce a special local regulation in 33 CFR 100.701, Table 1 to § 100.701, Paragraph (d), Item 3, for the Ironman Triathlon, from 6 a.m. to 11 a.m., on September 28, 2025. This action is being taken to provide for the safety of life on navigable waterways during this event. Our regulation for marine events within the Southeast Coast Guard District, 33 CFR 100.701, specifies the location of the regulated area for the Ironman Triathlon which encompasses portions of the Savannah River and its branches. During the enforcement periods, as reflected in 33 CFR 100.701(c), all persons and vessels are prohibited from entering the regulated area, except those persons and vessels participating in the event, unless they receive permission to do so from the Coast Guard Patrol Commander, or designated representative. The Coast Guard may be assisted by other Federal, State, or local law enforcement agencies in enforcing this regulation.

In addition to this notification of enforcement in the Federal Register, the Coast Guard plans to provide notification of this enforcement period via the Local Notice to Mariners (LNM), and Marine Safety Information Broadcasts (MSIB).

Nathaniel L. Robinson,
Commander, U.S. Coast Guard, Captain of the Port Savannah, GA.

[FR Doc. 2025-17946 Filed 9-16-25; 8:45 am]

BILLING CODE 9110-04-P